DEPARTMENT OF HOMELAND SECURITY

Coast Guard

33 CFR Part 117

[Docket No. USCG-2014-0735]

Drawbridge Operation Regulation; Lake Washington Ship Canal, Seattle, WA

AGENCY: Coast Guard, DHS.

ACTION: Notice of deviation from drawbridge regulation.

SUMMARY: The Coast Guard has issued a temporary deviation from the operating schedule that governs the Seattle Department of Transportation (SDOT) Fremont Bridge, across the Lake Washington Ship Canal, mile 2.6, at Seattle, WA. This deviation is necessary to allow the bridge to operate in single leaf mode while work crews are onsite, and to only provide a double leaf opening with a five hour advance notice. This deviation allows one half of the bridge to remain in the closed position while reducing the vertical clearance of the non-operating span by four feet to account for the installation of a moveable platform underneath the bridge.

DATES: This deviation is effective without actual notice from August 22, 2014 through 6 p.m. on January 21, 2015. For the purposes of enforcement, actual notice will be used from 7 a.m. on August 6, 2014, until August 22, 2014.

ADDRESSES: The docket for this deviation, [USCG-2014-0735] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email Steven.M.Fischer3@uscg.mil. If you have questions on viewing the docket, call Cheryl Collins, Program Manager, Docket Operations, telephone 202-366-9826.

SUPPLEMENTARY INFORMATION: The Seattle Department of Transportation (SDOT) has requested a temporary deviation from the operating schedule for the Fremont Bridge, mile 2.6, crossing the Lake Washington Ship Canal at Seattle, WA. The deviation is necessary to accommodate SDOT workers for a bridge painting project. To facilitate this event, the full draw of the bridge need not open for vessel traffic unless a five hour advance notice is provided to the bridge operator. Additionally, one half of the draw of the bridge will be maintained in the closed-to-navigation position, and the clearance reduced up to four feet. This deviation will begin at 7 a.m. on August 6, 2014 and continue until 6 p.m. on January 21, 2015.

The Fremont Bridge, mile 2.6, is a double leaf bascule bridge which provides a vertical clearance of 14 feet (31 feet of vertical clearance for the center 36 horizontal feet) in the closed position. The clearance is referenced to the mean water elevation of Lake Washington. The normal operating schedule for the Fremont Bridge is set out in 33 CFR 117.1051 and states that the bridge need not open from 7 a.m. to 9 a.m. and from 4 p.m. to 6 p.m. Monday through Friday for vessels less than 1000 tons. The normal operating schedule for this bridge also requires one hour advance notification for bridge openings between 11 p.m. and 7 a.m. daily. Waterway usage on the Lake Washington Ship Canal ranges from commercial tug and barge to small pleasure craft.

Vessels able to pass through the bridge in the closed positions may do so at any time. The bridge will be able to open one leaf, half of the draw span, for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: August 6, 2014.
Steven M. Fischer,
Bridge Administrator, Thirteenth Coast Guard District.

[FR Doc. 2014-20005 Filed 8-21-14; 8:45 am]

BILLING CODE 9110-04-P